GENERAL SERVICES ADMINISTRATION

41 CFR Part 102-37

[FMR Amendment 2007-02; FMR Case 2007-102-1; Docket 2007-001; Sequence 1]

RIN 3090-AI30

Federal Management Regulation; FMR Case 2007-102-1, Donation of Surplus Personal Property—Historic Light Stations

AGENCY: Office of Governmentwide Policy, General Services Administration (GSA).

ACTION: Final rule.

SUMMARY: The General Services Administration is amending the Federal Management Regulation (FMR) by incorporating the provisions in Public Law 109-313 regarding donations to historic light stations.

DATES: Effective Date: April 16, 2007.

FOR FURTHER INFORMATION CONTACT: Mr. Robert Holcombe, Office of Governmentwide Policy, Office of Travel, Transportation, and Asset Management (MT), at (202) 501-3828, or e-mail at Robert.Holcombe@gsa.gov for clarification of content. For information pertaining to status or publication schedules, contact the Regulatory Secretariat, Room 4035, GS Building, Washington, DC, 20405, (202) 501-4755. Please cite FMR Amendment 2007-02, FMR Case 2007-102-1.

SUPPLEMENTARY INFORMATION:

A. Background

Public Law 109-313, known as the General Services Administration Modernization Act, revised certain provisions of title 40 U.S.C. 549. This final rule reflects the changes made by Public Law 109-313.

B. Executive Order 12866

The General Services Administration (GSA) has determined that this final rule is not a significant regulatory action for the purposes of Executive Order 12866.

C. Regulatory Flexibility Act

This final rule is not required to be published in the Federal Register for comment. Therefore, the Regulatory Flexibility Act does not apply.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Part 102-37

Government property management, Surplus government property.

Dated: January 3, 2007.
Lurita Doan,
Administrator of General Services.

For the reasons set forth in the preamble, GSA amends 41 CFR part 102-37 as set forth below:

PART 102-37—DONATION OF SURPLUS PERSONAL PROPERTY

1. The authority citation for 41 CFR part 102-37 continues to read as follows:

Authority: 40 U.S.C. 549 and 121(c).

2. Amend § 102-37.380 by adding paragraph (b)(17) to read as follows:

§ 102-37.380 What is the statutory authority for donation of surplus Federal property made under this subpart?

* * * * *

(b) * * *

(17) Historic light stations as defined under section 308(e)(2) of the National Historic Preservation Act (16 U.S.C. 470w-7(e)(2)), including a historic light station conveyed under subsection (b) of that section, notwithstanding the number of hours that the historic light station is open to the public.

* * * * *

3. Amend Appendix C to part 102-37 by alphabetically adding the definition “Historic light station” to read as follows:

Appendix C to Part 102-37—Glossary of Terms for Determining Eligibility of Public Agencies and Nonprofit Organizations

* * * * *

Historic light station means a historic light station as defined under section 308(e)(2) of the National Historic Preservation Act 16 U.S.C. 470w-7(e)2), including a historic light station conveyed under subsection (b) of that section, notwithstanding the number of hours that the historic light station is open to the public.

* * * * *

[FR Doc. E7-4845 Filed 3-15-07; 8:45 am]

BILLING CODE 6820-14-S